DEPARTMENT OF THE INTERIOR

National Park Service

National Register of Historic Places; Notification of Pending Nominations and Related Actions

Nominations for the following properties being considered for listing or related actions in the National Register were received by the National Park Service before May 22, 2010. Pursuant to section 60.13 of 36 CFR part 60, written comments are being accepted concerning the significance of the nominated properties under the National Register criteria for evaluation. Comments may be forwarded by United States Postal Service,, to the National Register of Historic Places, National Park Service, 1849 C St., NW., 2280, Washington, DC 20240; by all other carriers, National Register of Historic Places, National Park Service,1201 Eye St., NW., 8th floor, Washington, DC 20005; or by fax, 202-371-6447. Written or faxed comments should be submitted by July 6, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

COLORADO

Boulder County

Rocky Mountain Mammoth Mine (Metal Mining and Tourist Era Resources of Boulder County MPS), 4879 Magnolia Dr, Nederland, 10000422

IOWA

Clarke County

Osceola Masonic Block, 101-103 S Main St, Osceola, 10000421

Polk County

Iowa Commission for the Blind Building, 524 4th St, Des Moines, 10000420

KANSAS

Atchison County

Wherrett—Mize Drug Company Building, 201 Main St, Atchison, 10000432

Harvey County

J.J. Krehbiel and Company Carriage Factory, 128-130 E 6th St, Harvey, 10000427

Riley County

Strasser House, 326 Laramie St, Manhattan, 10000431

Saline County

Christ Cathedral, 138 S 8th St, Salina, 10000429

Sedgwick County

Wilson, Fred D., House (Residential Resources of Wichita, Sedgwick County, Kansas 1870-1957), 205 N Pershing, Wichita, 10000428

Wyandotte County

H.W. Gates Funeral Home, 1901 Olathe Blvd, Kansas City, 10000430

LOUISIANA

East Feliciana Parish

California Club, The, 538 S Flower St, Los Angeles, 10000425

Iberia Parish

Vida Shaw Bridge, Vida Shaw Rd near intersection with SHWY 344, Loreaville, 10000419

MASSACHUSETTS

Middlesex County

Butters—Avery House (First Period Buildings of Eastern Massachusetts TR), 165 Chestnut St, Wilmington, 10000413

MINNESOTA

Carver County

Chaska Historical Marker, County Highway 61 near Edgehill Rd, Chaska, 10000415

Scott County

Holmes Street Bridge (Iron and Steel Bridges in Minnesota MPS), Holmes Street over the Minnesota River, Shakopee, 10000414

MONTANA

Missoula County

Bonner Company Town Historic District, Roughly bounded by W Riverside Dr on NW, Anaconda Ave on W, and unnamed ridges on N, S, and E., Bonner, 10000426

NORTH DAKOTA

Divide County

Travelers Hotel, 121 Main St, Noonan, 10000423

Grand Forks County

WPA Stone Structures in Memorial Park and Calvary Cemetery, SE Corner from intersection of Gateway Dr and N Columbia Rd, Grand Forks, 10000424

WASHINGTON

Cowlitz County

Berwind—Purcell House, 808 Lone Oak Rd, Longview, 10000416

Spokane County

Dodd House, 603 S Arthur St, Spokane, 10000417

Whitman County

Hutchison Studio, NE 200 Kamiaken St, Whitman, 10000418

[FR Doc. 2010-14773 Filed 6-17-10; 8:45 am]

BILLING CODE P